DEPARTMENT OF COMMERCE

International Trade Administration

[A-469-823]

Utility Scale Wind Towers From Spain: Notice of Court Decision Not in Harmony With the Final Determination of Less-Than-Fair-Value Investigation; Notice of Amended Final Determination; and Notice of Amended Antidumping Duty Order

AGENCY: Enforcement and Compliance, International Trade Administration, Department of Commerce.

SUMMARY: On January 28, 2025, the U.S. Court of International Trade (CIT) issued its final judgment in Siemens Gamesa Renewable Energy v. United States, Court No. 21-00449, sustaining the U.S. Department of Commerce (Commerce)'s second remand redetermination pertaining to the less-than-fair-value (LTFV) investigation of utility scale wind towers (wind towers) from Spain covering the period of investigation (POI) July 1, 2019, through June 30, 2020. Commerce is notifying the public that the CIT's final judgment is not in harmony with Commerce's final determination in that investigation, and that Commerce is amending the final determination and the resulting antidumping duty (AD) order with respect to the dumping margin for the collapsed entity which consists of: Siemens Gamesa Renewable Energy (SGRE); Windar Renovables S.A. (Windar); and five of Windar's affiliates (i.e., Tadarsa Eolica SL; Windar Offshore SL; Windar Wind Services SL; Aemsa Santana SA; and Apoyos Metalicos SA) (collectively, SGRE/Windar). Commerce is also amending the dumping margin assigned to all other producers and exporters of subject merchandise.

DATES: Applicable February 7, 2025.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On June 25, 2021, Commerce published its Final Determination in the LTFV investigation of wind towers from Spain.¹ In its Final Determination, Commerce: (1) declined to select SGRE as a respondent; and (2) assigned a margin based on adverse facts available to Windar.² On August 16, 2021, Commerce subsequently published the AD order on wind towers from Spain.³ SGRE appealed Commerce's Final Determination.

¹ See Utility Scale Wind Towers from Spain: Final Determination of Sales at Less Than Fair Value, 86 FR 33656 (June 25, 2021) (Final Determination), and accompanying Issues and Decision Memorandum.

² Id.

³ See Utility Scale Wind Towers from Spain: Antidumping Duty Order, 86 FR 45707 (August 16, 2021) (Order).

On February 16, 2023, the CIT remanded the Final Determination to Commerce, ordering Commerce to individually examine SGRE as a respondent in the LTFV investigation.⁴ In the First Redetermination, Commerce determined that SGRE was affiliated with Windar and that SGRE should be collapsed and considered as part of a single entity with Windar and Windar's manufacturing subsidiaries.⁵ Commerce then assigned Windar's existing rate to the collapsed SGRE/Windar entity.⁶ Because this rate was the only rate on the record of the proceeding, the rate for all other producers and exporters of subject merchandise remained unchanged.⁷

⁴ See Siemens Gamesa Renewable Energy v. United States, 621 F. Supp. 3d 1337, 1348-49 (CIT February 16, 2023) (SGRE I).

⁵ See Final Results of Redetermination Pursuant to Court Remand, Siemens Gamesa Renewable Energy v. United States, 621 F. Supp. 3d 1337 (CIT 2023), dated June 15, 2023 (First Redetermination) at 5-6.

⁶ Id. at 6-8.

⁷ Id. at 8-9.

On October 11, 2023, the CIT remanded the First Redetermination and ordered Commerce to either: (1) determine a new margin for the SGRE/Windar collapsed entity that would “substitute” for the rate calculated for Windar in the original investigation; or (2) reverse its collapsing decision with regard to SGRE and Windar and submit a new rate for SGRE, while leaving standing the rate calculated for Windar.⁸ The CIT also held that the all others rate determined in the First Redetermination was not in compliance with SGRE I.⁹

⁸ See Siemens Gamesa Renewable Energy v. United States, 659 F. Supp. 3d 1343 (CIT October 11, 2023).

⁹ Id., 659 F. Supp 3d at 1359.

In the Second Redetermination, Commerce continued to consider SGRE/Windar as a single entity and calculated a margin for SGRE/Windar based on the data the entity provided and that Commerce verified, as adjusted.¹⁰ Commerce then assigned SGRE/Windar's calculated margin as the all-others rate.¹¹ On January 28, 2025, the CIT sustained Commerce's Second Redetermination.¹²

¹⁰ See Final Results of Redetermination Pursuant to Court Remand, Siemens Gamesa Renewable Energy v. United States, 659 F. Supp. 3d 1343 (CIT 2023), dated June 21, 2024 (Second Redetermination).

¹¹ Id.

¹² See Siemens Gamesa Renewable Energy v. United States, Court No. 21-00449, Slip Op. 25-12 (CIT January 28, 2025).

Timken Notice

In its decision in Timken,¹³ as clarified by Diamond Sawblades,¹⁴ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's January 28, 2025, judgment constitutes a final decision of the CIT that is not in harmony with Commerce's Final Determination. Thus, this notice is published in fulfillment of the publication requirements of Timken.

¹³ See Timken Co. v. United States, 893 F.2d 337 (Fed. Cir. 1990) (Timken).

¹⁴ See Diamond Sawblades Manufacturers Coalition v. United States, 626 F.3d 1374 (Fed. Cir. 2010) (Diamond Sawblades).

Amended Final Determination

Because there is now a final court judgment, Commerce is amending its Final Determination with respect to the following exporters and/or producers:

Exporter/producer | Weighted-average dumping margin (percent ad valorem)
Siemens Gamesa Renewable Energy (SGRE); Windar Renovables S.A. (Windar); Tadarsa Eolica SL; Windar Offshore SL; Windar Wind Services SL; Aemsa Santana SA; and Apoyos Metalicos SA | 28.55
All Others | 28.55

Amended AD Order

Pursuant to section 735(c)(2) of the Act, Commerce shall “issue an antidumping duty order under section 736” of the Act when the final determination is affirmative. As a result of this amended final determination, Commerce is hereby amending the Order to revise the weighted-average dumping margins assigned to SGRE/Windar and all-other producers and exporters of subject merchandise, as noted above.

Cash Deposit Requirements

Because SGRE/Windar does not have a superseding cash deposit rate, i.e., there have been no final results published in a subsequent administrative review, and because of the change to the rate assigned to all other producers and exporters of subject merchandise, Commerce will issue revised cash deposit instructions to U.S. Customs and Border Protection.

Notification to Interested Parties

This notice is issued and published in accordance with sections 516A(c) and (e) and 777(i)(1) of the Act.

Dated: February 5, 2025.
Christopher Abbott,
Deputy Assistant Secretary for Policy and Negotiations, performing the non-exclusive functions and duties of the Assistant Secretary for Enforcement and Compliance.

[FR Doc. 2025-02448 Filed 2-10-25; 8:45 am]

BILLING CODE 3510-DS-P